DEPARTMENT OF AGRICULTURE

Forest Service

Forest Service Manual 2200, Chapters Zero, 10, 20, 30, 40, 50 and 70; Forest Service Handbook 2209.13, Chapters 10, 20, 30, 40, 50, 60, 70, 80 and 90; and Forest Service Handbook 2209.16, Chapter 10; Rangeland Management; Public Notice and Comment for Changes to Forest Service Directives

AGENCY: Forest Service, USDA.

ACTION: Issuance of proposed directives; notice of availability for public comment.

SUMMARY: The United States Department of Agriculture (USDA), United States Forest Service (Forest Service), is publishing for public comment proposed revisions to directives governing rangeland management, grazing permit administration, and grazing allotment administration.

DATES: Comments must be received in writing by February 16, 2021.

ADDRESSES: Comments may be submitted electronically to https://cara.ecosystem-management.org/Public/CommentInput?project=ORMS-2514. Written comments may be mailed to U.S. Forest Service, Director, Forest Management, Range Management and Vegetation Ecology, 201 14th Street SW, Washington, DC 20250-1124. All timely received comments, including names and addresses, will be placed in the record and will be available for public inspection and copying. The public may inspect comments received at https://cara.ecosystemmanagement.org/Public/ReadingRoom?project=ORMS-2514.

FOR FURTHER INFORMATION CONTACT: Myra Black, Program Manager, Forest Management, Range Management and Vegetation Ecology, at 202-650-7365, or by electronic mail to myra.black@usda.gov. Individuals using telecommunication devices for the deaf may call the Federal Information Relay Service at 800-877-8339 between 8 a.m. and 8 p.m. Eastern Time, Monday through Friday.

SUPPLEMENTARY INFORMATION: The directives proposed for revision are the primary source of administrative direction to Forest Service employees regarding the rangeland management program and have been in place for approximately 30 years. The proposed revisions would make the directives easier to use, current, and consistent with recent legislation. The updates would provide greater management flexibility and would enhance the clarity of policies and procedures applicable to the rangeland management program.

The proposed directives would update Forest Service Manual 2200, Rangeland Management, Chapters Zero, 10, 20, 30, 40, 50 and 70; Forest Service Handbook (FSH) 2209.13, Grazing Permit Administration, Chapters 10, 20, 30, 40, 50, 60, 70, 80 and 90; and FSH 2209.16, Allotment Administration, Chapter 10. Some of the proposed revisions to the directives formulate standards, criteria, or guidelines applicable to the rangeland management program and are therefore subject to public notice and comment per 36 CFR part 216. Other proposed revisions do not require public notice and comment under 36 CFR part 216 because they do not formulate standards, criteria, and guidelines applicable to the rangeland management program. Examples include revisions to conform to recent legislation and clarifying changes such as modifying terminology. These proposed revisions are interspersed throughout the chapters and are not specifically identified in the directives posted on the Agency's website. The Forest Service is publishing all of the proposed revisions for public comment. Forest Service National Environmental Policy Act (NEPA) procedures exclude from documentation in an environmental assessment or impact statement “rules, regulations, or policies to establish servicewide administrative procedures, program processes, or instructions.” 36 CFR 220.6(d)(2). The Agency's conclusion is that these proposed directives fall within this category of actions and that no extraordinary circumstances exist as currently defined that require preparation of an environmental assessment or an environmental impact statement.

The proposed directives and additional information on the proposed directives can be found at https://www.fs.fed.us/rangeland-management/directives.shtml. The additional information describes the purpose of the directives and why they are being updated and includes documents that will assist with review of the proposed directives and a schedule of informational webinars on the proposed directives.

After the public comment period closes, the Forest Service will consider timely and relevant comments in the development of the final directives. A notice of the final directives, including a response to timely and relevant comments, will be posted on the Forest Service's web page at https://www.fs.fed.us/about-agency/regulations-policies/comment-on-directives.

Tina Johna Terrell,
Associate Deputy Chief, National Forest System.

[FR Doc. 2020-27945 Filed 12-17-20; 8:45 am]

BILLING CODE 3411-15-P